DEPARTMENT OF TRANSPORTATION

Federal Aviation Administration

Research, Engineering and Development Advisory Committee; Notice of Meeting

AGENCY: Federal Aviation Administration, DOT.

ACTION: Notice of Meeting.

Pursuant to section 10(A)(2) of the Federal Advisory Committee Act (Pub. L. 92-463; 5 U.S.C. App. 2), notice is hereby given of a meeting of the FAA Research, Engineering and Development (R, E&D) Advisory Committee.

Name: Research, Engineering & Development Advisory Committee.

Time and Date: September 22, 2010—9:30 a.m. to 4 p.m.

Place: BAE Systems Conference Center, 80 M Street, SE., Washington, DC 20003.

Purpose: The meeting agenda will include receiving from the Committee guidance for FAA's research and development investments in the areas of air traffic services, airports, aircraft safety, human factors and environment and energy. Attendance is open to the interested public but seating is limited. Persons wishing to attend the meeting or obtain information should contact Gloria Dunderman at (202) 267-8937 or gloria.dunderman@faa.gov. Attendees will have to present picture ID at the security desk.

Members of the public may present a written statement to the Committee at any time.

Issued in Washington, DC, on July 30, 2010.
Barry Scott,
Director, Research & Technology Development.

[FR Doc. 2010-19478 Filed 8-9-10; 8:45 am]

BILLING CODE 4910-13-M